DEPARTMENT OF JUSTICE

Antitrust Division

Notice Pursuant to the National Cooperative Research and Production Act of 1993—Customer Experience Hub

Notice is hereby given that, on January 11, 2024, pursuant to section 6(a) of the National Cooperative Research and Production Act of 1993, 15 U.S.C. 4301 et seq. (“the Act”), The Customer Experience Hub (“CX Hub”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture as of the date of this filing are: AcademyHealth, Washington, DC; Access to Advanced Health Institute, Seattle, WA; Acclinate, Inc., Birmingham, AL; Addinex Technologies, Inc., New York, NY; Advanced BioScience Laboratories, Inc., Rockville, MD; Advanced Life Technologies LLC, Santa Barbara, CA; Advanced Silicon Group, Lowell, MA; Altec, Inc., Natick, MA; AmebaGone, Madison, WI; AMK Technologies of Ohio LLC, Mount Vernon, OH; AN2 Therapeutics, Inc., Menlo Park, CA; Angels for Change, Tampa, FL; Applied Research Associates, Albuquerque, NM; Arizona State University, Tempe, AZ; Aspire Clinical Intelligence LLC, Grand Forks, ND; Auburn University, Auburn, AL; Battelle Memorial Institute, Columbus, OH; BB Medical Surgical, Inc., San Francisco, CA; BCG Federal Corp., Washington, DC; Better Life Learning LLC, Birmingham, MI; BioAustinCTX, Austin, TX; BioBridge Global, San Antonio, TX; BioCircuit Technologies, Atlanta, GA; BioLum Sciences LLC, Dallas, TX; Biomotivate, Pittsburgh, PA; Biosortia Microbiomics, Dublin, OH; Bluehalo Labs LLC, Albuquerque, NM; Boston Children's Hospital, Boston, MA; Boston Engineering Corp., Waltham, MA; Boston Medical Center Corp., Boston, MA; BroadReach Group LLC, Washington, DC; Burnett School of Medicine at Texas Christian University, Fort Worth, TX; California Medical Innovations Institute, San Diego, CA; Cancer Prevention & Research Institute of Texas, Austin, TX; CarePredict, Inc., Plantation, FL; Children's National Hospital; Washington, DC; Children's Nebraska, Omaha, NE; ClearCam, Inc., Austin, TX; Cleveland Clinic, Cleveland, OH; Clinical Research Payment Network, Elkhart, IL; Clinical Research Strategies LLC, Wexford, PA; Cocrystal Pharma, Inc., Miami, FL; Cook Children's Health Care System, Fort Worth, TX; Creare LLC, Hanover, NH; Creatv MicroTech, Inc., Rockville, MD; Critical Innovations LLC, Lawndale, CA; Cure Rare Disease, Inc., Woodbridge, CT; Dallas College, Dallas, TX; Deloitte Consulting LLP, Arlington, VA; Domestic Monitoring Initiative (DMI), Erie, PA; Durahip LLC, San Antonio, TX; Eagle Health Analytics LLC, San Antonio, TX; Egality Sciences LLC, Houston, TX; Eisana, The Woodlands, TX; Elcomm, Kennesaw, GA; Emory University, Atlanta, GA; emTruth, Glendale, CA; Fempower Health, Irvington, NY; First Choice Professionals dba First Health Advisory, Scottdale, AZ; Florida Institute for Human & Machine Cognition, Inc., Pensacola, FL; GaitIQ, Inc., San Antonio, TX; GelSana Therapeutics, Inc., Aurora, CO; GeneInfoSec, Boulder, CO; Gener8 LLC, San Jose, CA; Georgetown University, Washington, DC; Ginkgo Bioworks, Inc., Boston, MA; Glendor, Inc., Draper, UT; Grant Halliburton Foundation, Inc., Dallas, TX; Gwen Lily Research Foundation, Irving, TX; Harmony Healthcare Solutions, Inc. dba Harmony Health, Sunnyvale, CA; Healthpointe Solutions, Inc., Austin, TX; HERMTAC LLC, Dallas, TX; ICON Government and Public Health Solutions, Inc., Blue Bell, PA; Inhance Digital Corp., Los Angeles, CA; Innovation Incubator, Inc., Bayside, NY; International Business Machines Corp., Armonk, NY; INVIZA Corp., Malden, MA; IOTAI, Inc., Fremont, CA; Irrational Labs, Oakland, CA; Irving Burton Associates, Silver Springs, MD; JPS Health Network, Fort Worth, TX; Jubilant Hollisterstier LLC, Spokane, WA; Jurata Thin Film, Inc., Chapel Hill, NC; K2 Biolabs, Inc., Houston, TX; Kaibab Health, Sheridan, WY; Knight Technical Solutions LLC, Huntsville, AL; Lazarus 3D, Philomath, OR; Lighthouse XR LLC, Chester, VA; Limax Biosciences, Inc., Somerville, MA; Locus Biosciences, Morrisville, NC; LSU Health Science Center: New Orleans, New Orleans, LA; LSU Health Shreveport, Shreveport, LA; Luna Labs USA LLC, Charlottesville, VA; M3D, Inc., Ann Arbor, MI; MapHabit, Inc., Atlanta, GA; Maravai Lifesciences, San Diego, CA; Maryland Technology Development Corp., Columbia, MD; Mass General Brigham, Somerville, MA; Maxwell Biosciences, Inc., Austin, TX; MDC Studio, Inc., Baltimore, MD; Medable, Palo Alto, CA; MedVector, El Segundo, CA; Memsel, Inc., Fort Worth, TX; Moberg Analytics, Inc., Philadelphia, PA; Molecular Technologies Laboratories LLC, Columbus, OH; MRIGlobal, Gaithersburg, MD; National Association of Community Health Centers, Inc., Bethesda, MD; National Hispanic Health Foundation, Washington, DC; National Resilience, Inc., San Diego, CA; National Strategic Research Institute, Omaha, NE; Neurxstem, Inc., Columbus, OH; New Horizons Diagnostics Corp., Baltimore, MD; NIRSense, Inc., Richmond, VA; North Carolina State University, Raleigh, NC; NXTech, Inc., Patchogue, NY; O3 World LLC, Philadelphia, PA; Oceanit Laboratories, Inc., Honolulu, HI; OLSF Ventures, Tulsa, OK; Oregon Bioscience Association, Portland, OR; Orlando Health, Orlando, FL; Otter Cove Solutions LLC, Gaithersburg, MD; OXOS Medical, Atlanta, GA; Parkland Center for Clinical Innovation, Dallas, TX; Parkland Health, Dallas, TX; Patchwise Labs, Alameda, CA; Pennington Biomedical Research Center, Baton Rouge, LA; Pennsylvania State University—College of Medicine, Hershey, PA; Phronetik, Inc., Flower Mound, TX; Polaris Sensor Technologies, Inc., Huntsville, AL; PPD Development LP, Wilmington, NC; ppxTEX LLC, Jackson, MS; PragmaClin, St. John's, CANADA; PriMetaz, Boston, MA; Proteios Technology, Inc., Issaquah, WA; Purdue University, West Lafayette, IN; Qana Therapeutics, Inc., Austin, TX; QuantaSpec, Inc., Essex Junction, VT; Re:Build Manufacturing, Framingham, MA; Research Your Health LLC, Plano, TX; Resonantia Diagnostics, Inc., Dallas, TX; Ridgeline Therapeutics, Houston, TX; Ronawk, Inc., Overland Park, KS; Rubitection, Pittsburgh, PA; Rubix LS, Lawrence, MA; Rutgers University, New Brunswick, NJ; Safebeat Rx, Inc., Carson, CA; SafeGuard Surgical, Tampa, FL; SafetySpect, Inc., Grand Forks, ND; Safi Biotherapeutics, Inc., Cambridge, MA; SanaHeal, Inc., Boston, MA; Scorpius BioManufacturing, San Antonio, TX; Signature Science LLC, Austin, TX; Signum Technologies, Inc., Randor, PA; SimX, Inc., San Francisco, CA; Sonera Magentics, Inc., Berkeley, CA; Southwest Research Institute, San Antonio, TX; Southwest Texas Regional Advisory Council, San Antonio, TX; Sozo Dx LLC, Plano, TX; Sparta Science, San Francisco, CA; SPEAR Human Performance, Inc., Tallahassee, FL; Spectral Platforms, Duarte, CA; Sperry Medtech, Inc., Springfield, MA; Stanford Byers Center for Biodesign, Stanford, CA; Stellarray, Inc., Austin, TX; Swaza, Mountain View, CA; Talis Biomedical Corp., Redwood City, CA; Texas A&M Engineering Experiment Station, Bryan, TX; Texas Biomedical Research Institute, San Antonio, TX; Texas Healthcare and Bioscience Institute, Austin, TX; Texas Oncology, Dallas, TX; Texas State University—Translational Health Research Center, San Marcos, TX; Texas Tech University Health Sciences Center, Lubbock, TX; Texas Woman's University, Denton, TX; The Geneva Foundation, Tacoma, WA; The Henry M. Jackson Foundation for the Advancement of Military Medicine, Bethesda, MD; The Life Raft Group, Wayne, NJ; The Nebraska Medical Center, Omaha, NE; The University of Texas at Dallas, Richardson, TX; The University of Texas: M.D Anderson Cancer Center, Houston, TX; TheraTec, Inc., Horace, ND; TheraVista Health, Brentwood, TN; Thomas Jefferson University, Philadelphia, PA; Tranexamic Technologies LLC, Dallas, TX; Ubiros, Inc., Natick, MA; University City Science Center, Philadelphia, PA; University of California at Riverside, Riverside, CA; University of Delaware, Newark, DE; University of Hawai'i System, Honolulu, HI; University of Montana, Missoula, MT; University of Nebraska Medical Center, Omaha, NE; University of Notre Dame, Notre Dame, IN; University of Southern California, Los Angeles, CA; University of Texas at Austin, Austin, TX; University of Texas at San Antonio, San Antonio, TX; Univox Technical Solutions LLC dba Univox LLC, Tijeras, NM; Vanderbilt University, Nashville, TN; Varda Space Industries, Inc., El Segundo, CA; VelocityTX, San Antonio, TX; Verily Life Sciences LLC, South San Francisco, CA; ViBo Health, Fairfax, VA; Vivonics, Inc., Bedford, MA; Wake Forest University Health Sciences, Winston Salem, MA; Weinberg Medical Physics, Inc., Rockville, MD; West-Tech Materials, Keller, TX; Yuzu Labs Public Benefit Corp., San Francisco, CA; Zeteo Biomedical LLC, Austin, TX; Zeteo Tech, Inc., Sykesville, MD; Zymeron Corp., Durham, NC.

Consistent with 15 U.S.C. 4301(a)(6)(C), (E) and (F), the CX Hub is a new consortium created in response to requirements of the Advanced Research Projects Agency for Health (ARPA-H) for the active transition of health innovation in an expedient, safe, cost-effective, accessible, and sustainable manner that reaches all Americans. The CX Hub will take a human-centered approach to develop technologies and health solutions that will be accessible, desirable, and affordable for all. It will also take a proactive approach to enhance clinical trials, reach representative patient populations, and capture outcomes data for future use leading to better and more equitable health outcomes for all.

Suzanne Morris,
Deputy Director Civil Enforcement Operations, Antitrust Division.

[FR Doc. 2024-07942 Filed 4-15-24; 8:45 am]

BILLING CODE P